DEPARTMENT OF DEFENSE

Department of the Army

Availability for Non-Exlcusive, Exclusive, or Partially Exclusive Licensing of U.S. Patent Concerning Differentially Acting OP Detoxifying Sponges

AGENCY: U.S. Army Medical Research and Material Command, DoD.

ACTION: Notice.

SUMMARY: In accordance with 37 CFR 404.6, announcement is made of the availability for licensing of U.S. Patent Application Serial No. 09/559,396 entitled “Differentially Acting OP Detoxifying Sponges” filed April 26, 2000. Foreign rights are also available (PCT/US00/11070). This patent application has been assigned to the United States Government as represented by the Secretary of the Army.

ADDRESSES: Commander, U.S. Army Medical Research and Material Command, ATTN: Command Judge Advocate, MCMR-JA, 504 Scott Street, Fort Detrick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A material comprising a porous support and a plurality of enzymes for the removal, decontamination or neutralization of hazardous chemicals such as OP compounds is disclosed. The material may be used on a variety of surfaces, including natural, synthetic, and biological surfaces such as skin and other delicate membranes. Also disclosed is a process of making the material, kits and various methods of reactivation devices for reactivating the enzymatic activity of the material.

Luz D. Ortiz,
Army Federal Register Liaison Officer.

[FR Doc. 01-18006 Filed 7-18-01; 8:45 am]

BILLING CODE 3710-08-M